DEPARTMENT OF HOMELAND SECURITY

Federal Emergency Management Agency

44 CFR Part 64

[Docket No. FEMA-7784]

List of Communities Eligible for the Sale of Flood Insurance

AGENCY: Mitigation Division, Federal Emergency Management Agency (FEMA), Department of Homeland Security.

ACTION: Final rule.

SUMMARY: This rule identifies communities that are participating and suspended from the National Flood Insurance Program (NFIP). These communities have applied to the program and have agreed to enact certain floodplain management measures. The communities' participation in the program authorizes the sale of flood insurance to owners of properties located in the communities listed below.

DATES: The effective date for each community is listed in the fourth column of the following tables.

ADDRESSES: Flood insurance policies for properties located in the communities listed below can be obtained from any licensed property insurance agent or broker serving the eligible community or from the NFIP by calling 1-800-638-6620.

FOR FURTHER INFORMATION CONTACT: William H. Lesser, Mitigation Division, 500 C Street, SW., Room 412, Washington, DC 20472, (202) 646-2807.

SUPPLEMENTARY INFORMATION: The NFIP enables property owners to purchase flood insurance that is generally not otherwise available. In return, communities agree to adopt and administer local floodplain management measures aimed at protecting lives and new construction from future flooding. Because the communities on the attached list have recently entered the NFIP, subsidized flood insurance is now available for properties in these communities.

In addition, FEMA has identified the Special Flood Hazard Areas (SFHAs) in some of these communities by publishing a Flood Hazard Boundary Map (FHBM) or Flood Insurance Rate Map (FIRM). The date of the flood map, if one has been published, is indicated in the fourth column of the table. In the communities listed where a flood map has been published, Section 202 of the Flood Disaster Protection Act of 1973, as amended, 42 U.S.C. 4016(a), requires the purchase of flood insurance as a condition of Federal or Federally-related financial assistance for acquisition or construction of buildings in the SFHAs shown on the map.

The Administrator finds that delayed effective dates would be contrary to the public interest and that notice and public procedure under 5 U.S.C. 553(b) are impracticable and unnecessary.

National Environmental Policy Act. This rule is categorically excluded from the requirements of 44 CFR part 10, Environmental Considerations. No environmental impact assessment has been prepared.

Regulatory Flexibility Act. The Administrator certifies that this rule will not have a significant economic impact on a substantial number of small entities in accordance with the Regulatory Flexibility Act, 5 U.S.C. 601 et seq., because the rule creates no additional burden, but lists those communities eligible for the sale of flood insurance.

Regulatory Classification. This final rule is not a significant regulatory action under the criteria of section 3(f) of Executive Order 12866 of September 30, 1993, Regulatory Planning and Review, 58 FR 51735.

Paperwork Reduction Act. This rule does not involve any collection of information for purposes of the Paperwork Reduction Act, 44 U.S.C. 3501 et seq.

List of Subjects in 44 CFR Part 64

Flood insurance, Floodplains.

Accordingly, 44 CFR part 64 is amended as follows:

PART 64—[AMENDED]

1. The authority citation for part 64 is revised to read as follows:

Authority: 42 U.S.C. 4001 et seq., Reorganization Plan No. 3 of 1978, 3 CFR, 1978 Comp., p. 329; E.O. 12127, 44 FR 19367, 3 CFR, 1979 Comp., p. 376.

§ 64.6 [Amended]

The tables published under the authority of § 64.6 are amended as follows:

State | Location | Community No. | Effective date of eligibility | Current effective map date
New Eligibles: Emergency Program
Region VII
Iowa | Prescott, City of, Adams County | 190004 | October 12, 2005 | FHBM dated November 5, 1976.
Region IV
Kentucky | Brodhead, City of, Rockcastle County | 210201 | October 20, 2005 | FHBM dated February 27, 1976.
*Do | Calloway County, Unincorporated Areas | 210313 | ......do | FHBM dated December 2, 1977.
Region V
Illinois | Montrose, Village of, Cumberland and Effingham Counties | 170230 | December 15, 2005 | Unmapped.
Wisconsin | Siren, Village of, Burnett County | 550041 | ......do | Unmapped.
Region IV
Kentucky | Union County, Unincorporated Areas | 210301 | December 21, 2005 | Unmapped.
Region IV
Alabama | Cuba, Town of, Sumter County | 010379 | December 29, 2005 | FHBM dated March 16, 1979.
North Carolina | Calypso, Town of, Duplin County | 370661 | ......do | Never Mapped.
Do | Warsaw, Town of, Duplin County | 370633 | ......do | Never Mapped.
Do | Webster, Town of, Jackson County | 370281 | ......do | FHBM dated February 10, 1978.
New Eligibles: Regular Program
Region I
Maine | **Mariaville, Town of, Hancock County | 230286 | October 1, 2005 | FHBM dated March 14, 1975, converted to FIRM by letter October 1, 2005.
Region VII
Iowa | **Beaman, City of, Grundy County | 190400 | October 19, 2005 | October 19, 2005.
Do | **Grundy Center, City of, Grundy County | 190403 | ......do | Do.
Region IV
Tennessee | **Ramer, Town of, McNairy County | 470131 | November 1, 2005 | FHBM, dated November 29, 1974, converted to FIRM by letter November 1, 2005.
Region V
Ohio | Clayton, City of, Montgomery County | 390821 | November 10, 2005 | January 6, 2005.
Region VII
Nebraska | Knox County, Unincorporated Areas | 310451 | November 14, 2005 | August 18, 2005.
Kansas | Cheney, City of, Sedgwick County | 200478 | November 30, 2005 | Use Sedgwick County (CID 200321) FIRM panel 0175A, dated June 3, 1986.
Missouri | **Wardsville, City of, Cole County | 290633 | December 2, 2005 | December 2, 2005.
Region VIII
Colorado | Glendale, City of, Arapahoe County | 080247 | December 5, 2005 | August 16, 1995.
Region VII
Iowa | Kamrar, City of, Hamilton County | 190406 | December 6, 2005 | November 17, 2005.
Region IV
Alabama | **Cowarts, Town of, Houston County | 010103 | December 16, 2005 | December 16, 2005.
Region VIII
Utah | **West Haven, City of, Weber County | 490249 | ......do | Do.
Region II
New York | East Hills, Village of, Nassau County | 361627 | December 19, 2005 | April 2, 1997.
Region IV
Alabama | Lee County, Unincorporated Areas | 010250 | December 29, 2005 | September 16, 1981.
Do | Summerdale, Town of, Baldwin County | 010328 | ......do | June 17, 2002.
North Carolina | Dortches, Town of, Nash County | 370652 | ......do | November 3, 2004.
Do | Momeyer, Town of, Nash County | 370657 | ......do | Do.
Region V
Ohio | Philo, Village of, Muskingum County | 390851 | ......do | FHBM dated March 30, 1979, and Muskingum County FIRM (CID 390425) dated September 5, 1990.
Nebraska | Crofton, City of, Knox County | 310361 | October 6, 2005 | August 18, 2005.
Region II
New Jersey | East Rutherford Borough of, Bergen County | 340028 | October 13, 2005 | September 30, 2005.
Region IV
Kentucky | Owsley County, Unincorporated Areas | 210296 | November 3, 2005 | August 5, 1985.
Region VII
Missouri | Argyle, Village of, Osage County | 290491 | November 10, 2005 | September 2, 2005.
Region VII
Iowa | Pierson, City of, Woodbury County | 190295 | November 14, 2005 | September 18, 1985.
Region VIII
Utah | Nibley, City of, Cache County | 490023 | December 1, 2005 | August 5, 1986.
Region VII
Kansas | Auburn, City of, Shawnee County | 200332 | December 6, 2005 | January 16, 1981.
Region II
New York | Belfast, Town of, Allegany County | 361096 | December 7, 2005 | August 6, 1982.
Region I
Maine | Franklin, Town of, Hancock County | 230282 | December 9, 2005 | July 16, 1991.
Region V
Illinois | Virginia, City of, Cass County | 170024 | ......do | September 1, 1986.
Withdrawals
None.
Suspensions
Region IV
Tennessee | McNairy County, Unincorporated Areas | 470127 | June 16, 1986, Emerg; July 1, 1988, Reg; October 24, 2005, Susp | October 19, 2005.
Do | Benton County, Unincorporated Areas | 470218 | October 4, 1989, Emerg; July 2, 1991, Reg; December 19, 2005, Susp | December 16, 2005.
Probation
None.
Suspension Rescissions
Region VII
Missouri | Alton, City of, Oregon County | 290490 | October 24, 2005 Suspension Notice Rescinded | October 19, 2005.
Do | Thayer, City of, Oregon County | 290267 | ......do | Do.
Region I
Maine | Windsor, Town of, Kennebec County | 230251 | November 1, 2005 Suspension Notice Rescinded | February 4, 1987.
Region IV
North Carolina | Jacksonville, City of, Onslow County | 370178 | ......do | November 3, 2005.
Do | North Topsail Beach, Town of, Onslow County | 370466 | ......do | Do.
Do | Onslow County, Unincorporated Areas | 370340 | ......do | Do.
Do | Richlands, Town of, Onslow County | 370341 | ......do | Do.
Do | Swansboro, Town of, Onslow County | 370179 | ......do | Do.
Do | Freemont, Town of, Wayne County | 370492 | December 1, 2005 Suspension Notice Rescinded | December 2, 2005.
Do | Smithfield, Town of, Johnston County | 370140 | ......do | Do.
Do | Walnut Creek, Village of, Wayne County | 370435 | ......do | Do.
Do | Wayne County, Unincorporated Areas | 370254 | ......do | Do.
Region VII
Missouri | Cole County, Unincorporated Areas | 290107 | ......do | Do.
Do | Jefferson, City of, Cole County | 290108 | ......do | Do.
Nebraska | Bellevue, City of, Sarpy County | 310191 | ......do | Do.
Do | Bennington, City of, Douglas County | 310074 | ......do | Do.
Do | Douglas County Unincorporated Areas | 310073 | ......do | Do.
Do | Elkhorn, City of, Douglas County | 310075 | ......do | Do.
Do | La Vista, City of, Sarpy County | 310192 | ......do | Do.
Do | Omaha, City of, Douglas County | 315274 | ......do | Do.
Do | Papillion, City of, Sarpy County | 315275 | ......do | Do.
Do | Ralston, City of, Douglas County | 310077 | ......do | Do.
Do | Sarpy County Unincorporated Areas | 310190 | ......do | Do.
Do | Valley, City of, Douglas County | 310078 | ......do | Do.
Region I
Connecticut | South Windsor, Town of, Hartford County | 090036 | December 16, 2005 Suspension Notice Rescinded | December 16, 2005.
Region IV
North Carolina | Currituck County Unincorporated Areas | 370078 | ......do | Do.
Tennessee | Camden, City of, Benton County | 470010 | ......do | Do.
Region VI
New Mexico | Jal, City of, Lea County | 350030 | ......do | Do.
Region VIII
Utah | North Ogden, City of, Weber County | 490214 | ......do | Do.
Do | Ogden, City of, Weber County | 490189 | ......do | Do.
Do | Plain City, City of, Weber County | 490217 | ......do | Do.
Do | Riverdale, City of, Weber County | 490190 | ......do | Do.
Do | Roy, City of, Weber County | 490223 | ......do | Do.
Do | South Ogden, City of, Weber County | 490191 | ......do | Do.
Do | Uintah, City of, Weber County | 490192 | ......do | Do.
Do | Weber County, Unincorporated Areas | 490187 | ......do | Do.
Do | West Haven, City of, Weber County | 490249 | ......do | Do.
* ......do = Ditto.
** Designates communities converted from Emergency Phase of participation to the Regular Phase of participation.
Code for reading fourth and fifth columns: Emerg.-Emergency; Reg.-Regular; Rein.-Reinstatement; Susp.-Suspension; With.-Withdrawn; NSFHA-Non Special Flood Hazard Area.

>

(Catalog of Federal Domestic Assistance No. 83.100, “Flood Insurance.”)

Dated: March 24, 2006.
Michael K. Buckley,
Deputy Director, Mitigation Division, Federal Emergency Management Agency, Department of Homeland Security.

[FR Doc. 06-3191 Filed 4-3-06; 8:45 am]

BILLING CODE 9110-12-P